DEPARTMENT OF DEFENSE

GENERAL SERVICES ADMINISTRATION

NATIONAL AERONAUTICS AND SPACE ADMINISTRATION

48 CFR Chapter 1

Federal Acquisition Regulation; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator for the National Aeronautics and Space Administration. This Small Entity Compliance Guide has been prepared in accordance with Section 212 of the Small Business Regulatory Enforcement Fairness Act of 1996. It consists of a summary of rules appearing in Federal Acquisition Circular (FAC) 2001-22 which amend the FAR. An asterisk (*) next to a rule indicates that a regulatory flexibility analysis has been prepared. Interested parties may obtain further information regarding these rules by referring to FAC 2001-22 which precedes this document. These documents are also available via the Internet at http://www.arnet.gov/far.

FOR FURTHER INFORMATION CONTACT: Laurie Duarte, FAR Secretariat, (202) 501-4225. For clarification of content, contact the analyst whose name appears in the table below.

List of Rules in FAC 2001-22
Item | Subject | FAR case | Analyst
I* | Government Property Disposal | 1995-013 | Parnell.
II | General Provisions of the Cost Principles | 2001-034 | Loeb.
III | Unique Contract and Order Identifier Numbers | 2002-025 | Zaffos.
IV | Unsolicited Proposals | 2002-027 | Wise.
V | New Mexico Tax—United States Missile Defense Agency | 2003-020 | Loeb.
VI | Technical Amendments

Item I—Government Property Disposal (FAR Case 1995-013)

This final rule amends FAR Parts 1, 2, 8, 45, 49, 52, and 53 to simplify procedures, reduce recordkeeping, and eliminate requirements related to the disposition of Government property in the possession of contractors.

Item II—General Provisions of the Cost Principles (FAR Case 2001-034)

This final rule amends the FAR to revise certain general provisions of the cost principles contained at FAR 31.201-1, Composition of total cost; FAR 31.201-2, Determining allowability; FAR 31.202, Direct costs; and FAR 31.203, Indirect costs. The rule revises the cost principles by improving clarity and structure, and removing unnecessary and duplicative language. The final rule also adds the definition of “direct cost” and revises the definition of “indirect cost” at FAR 2.101, Definitions, to be consistent with the terminology used in the cost accounting standards (CAS). The case was initiated as a result of comments and recommendations received from industry and Government representatives during a series of public meetings. This rule is of particular interest to contractors and contracting officers who use cost analysis to price contracts and modifications, and who determine or negotiate reasonable costs in accordance with a clause of a contract, e.g., price revision of fixed-price incentive contracts, terminated contracts, or indirect cost rates.

Item III—Unique Contract and Order Identifier Numbers (FAR Case 2002-025)

The interim rule published in the Federal Register at 68 FR 56679, October 1, 2003, is converted to a final rule, without change, to require each reporting agency to assign a unique procurement instrument identifier (PIID) for every contract, purchase order, BOA, Basic Agreement, and BPA reported to the Federal Procurement Data System; and to have in place a process that will ensure that each PIID reported to FPDS is unique, Governmentwide, and will remain so for at least 20 years from the date of contract award.

Item IV—Unsolicited Proposals (FAR Case 2002-027)

This final rule amends the FAR to implement section 834 of the Homeland Security Act of 2002 (Pub. L. 107-296). Section 834 adds new considerations concerning the submission, receipt, evaluation, and acceptance or rejection of unsolicited proposals. The rule will require that a valid unsolicited proposal not address a previously published agency requirement. It also requires that, before initiating a comprehensive evaluation, the agency must determine that the proposal contains sufficient cost related or price related information for evaluation, and that it has overall scientific, technical, or socioeconomic merit.

Item V—New Mexico Tax—United States Missile Defense Agency (FAR Case 2003-020)

This final rule amends FAR 29.401-4(c) to incorporate the Defense Missile Agency as a participating agency within the terms and conditions stipulated in FAR 29.401-4, New Mexico Gross Receipts and Compensating Tax. This provision aims to eliminate the double taxation of Government cost reimbursement contracts when contractors and their subcontractors purchase tangible personal property to be used in performing services in the State of New Mexico and for which such property will pass to the United States.

Item VI—Technical Amendments

This amendment makes editorial changes at FAR 52.212-5(b)(24) and 52.213-4(a)(1)(iv).

Dated: March 26, 2004.
Laura Auletta,
Director, Acquisition Policy Division.

[FR Doc. 04-7411 Filed 4-2-04; 8:45 am]

BILLING CODE 6820-EP-P